FEDERAL COMMUNICATIONS COMMISSION

[DA 00-1401]

New Filing Window for MDS and ITFS Applications for Two-Way Operations

AGENCY: Federal Communications Commission.

ACTION: Notice.

SUMMARY: This document postpones the July 3 through July 10, 2000 filing window for MDS and ITFS applications for two-way operations. The new filing window will begin August 14, 2000 and end August 18, 2000.

DATES: The new window filing opportunity begins August 14, 2000 and ends August 18, 2000.

FOR FURTHER INFORMATION CONTACT: David Roberts, Video Services Division, Mass Media Bureau at (202) 418-1600.

SUPPLEMENTARY INFORMATION: This is a summary of a Order released June 23, 2000. It does not include attachments. The complete text of the Order is available for public inspection and copying during normal business hours in the FCC Reference Center (Room CY-A257), 445 12th Street, SW, Washington, DC. It may also be purchased from the Commission's copy contractor, International Transcription Services, Inc. (ITS, Inc.) 1231 20th Street, NW, Washington, DC 20035, (202) 857-3800. It is also available on the Commission's web site at http://www.fcc.gov.

The Mass Media Bureau announces a postponement of the July 3 through July 10, 2000 filing window for MDS and ITFS applications for two-way operations. The new filing window will begin August 14, 2000 and end August 18, 2000. However, in order to permit commercial operators to fulfill their business plans which were created in reliance upon the timelines set forth in previous Commission Orders and Public Notice, the Commission will permit MDS operators, starting July 3, 2000, to file applications for two-way authority for Channels 1, 2 and 2a upstream. Such commercial applicants should have consents for downstream transmissions from all affected parties. In addition, we will permit ITFS operators the opportunity to file for developmental authority to begin two-way service.

Federal Communications Commission.
Barbara A. Kreisman,
Chief, Video Services Division, Mass Media Bureau.

[FR Doc. 00-16324 Filed 6-27-00; 8:45 am]

BILLING CODE 6712-01-P